DEPARTMENT OF HOMELAND SECURITY

Federal Emergency Management Agency

[Docket ID: FEMA-2011-0015; OMB No. 1660-0002]

Agency Information Collection Activities: Submission for OMB Review; Comment Request, Disaster Assistance Registration

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 16, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Disaster Assistance Registration.

Type of information collection: Revision of a currently approved information collection.

OMB Number: 1660-0002.

Form Titles and Numbers: FEMA Form 009-0-1T (English) Tele-Registration, Disaster Assistance Registration; FEMA Form 009-0-1Int (English) Internet, Disaster Assistance Registration; FEMA Form 009-0-2Int (Spanish) Internet, Registro Para Asistencia De Desastre; FEMA Form 009-0-1 (English) Paper Application/Disaster Assistance Registration; FEMA Form 009-0-2 (Spanish), Solicitud en Papel/Registro Para Asistencia De Desastre; FEMA Form 009-0-1S (English) Smartphone, Disaster Assistance Registration; FEMA Form 009-0-2S (Spanish) Smartphone, Registro Para Asistencia De Desastre; FEMA Form 009-0-3 (English), Declaration and Release; FEMA Form 009-0-4 (Spanish), Declaración Y Autorización; FEMA Form 009-0-5 (English) Receipt for Government Property; FEMA Form 009-0-6 (Spanish) Recibo de la Propiedad del Gobierno.

Abstract: The Disaster Assistance Registration form is used to collect pertinent information to provide financial assistance, and if necessary, direct assistance to eligible individuals and households who, as a direct result of a disaster or emergency, have uninsured or under-insured, necessary or serious expenses that they are unable to meet through other means.

Affected Public: Individuals or Households.

Estimated Number of Respondents: 2,835,180.

Frequency of Response: On occasion.

Estimated Average Hour Burden per Respondent: Tele-Registration Application for Disaster Assistance (English), FEMA Form 009-0-1T, 18 minutes; Internet Application for Disaster Assistance (English and Spanish), FEMA Forms 009-0-1Int and 009-0-2Int, 18 minutes; Paper Application for Disaster Assistance (English and Spanish), FEMA Forms 009-0-1 and 009-0-2, 18 minutes; Smartphone Application for Disaster Assistance, FEMA Forms (English and Spanish) 009-0-1S and 009-0-2S, 18 minutes; Declaration and Release (English and Spanish), FEMA Forms 009-0-3 and 009-0-4, 2 minutes; Receipt of Government Property (English and Spanish), FEMA Form 009-0-5 and 009-0-6, 10 minutes.

Estimated Total Annual Burden Hours: 555,009 hours.

Estimated Cost: The estimated annual cost to respondents for the hour burden is $17,016,572.24. There are no annual costs to respondents operations and maintenance costs for technical services. There is no annual start-up or capital costs. The cost to the Federal Government is $15,618,762.

John G. Jenkins, Jr.,
Acting Director, Records Management Division, Mission Support Bureau, Federal Emergency Management Agency, Department of Homeland Security.

[FR Doc. 2012-633 Filed 1-13-12; 8:45 am]

BILLING CODE 9111-23-P